DEPARTMENT OF ENERGY

Federal Energy Regulatory Commission

[Docket No. CP00-425-00]

Dominion Transmission, Inc. (formerly CNG Transmission Corp.); Notice of Request Under Blanket Authorization

August 8, 2000.

Take notice that on August 1, 2000, Dominion Transmission, Inc. (DTI), formerly CNG Transmission Corporation, 445 West Main Street, Clarksburg, West Virginia 26301, filed in Docket No. CP00-425-000 a request pursuant to Sections 157.205 and 157.208 of the Commission's Regulations under the Natural Gas Act (18 CFR 157.205, 157.208) for authorization to uprate the maximum allowable operating pressure (MAOP) of twenty-eight (28) natural gas storage pipelines at the Oakland Storage Complex, located in Westmoreland County, Pennsylvania, under DTI's blanket certificate issued in Docket No. CP82-537-000, pursuant to Section 7(c) of the Natural Gas Act, all as more fully set forth in the request that is on file with the Commission and open to public inspection. This filing may be viewed on the web at http://www.ferc.fed.us/online/rims.htm (call 202-208-2222 for assistance).

DTI proposes to uprate the MAOP of twenty-eight (28) natural gas storage pipelines in the southern portion of the Murrysville Storage Pool of the Oakland Storage Complex, located in Westmoreland County, Pennsylvania. DTI states that the pipelines they propose to uprate are currently used to withdraw gas from the southern portion of the Murrysville Storage Pool for either recycling of gas to the higher pressure northern portion of the Murraysville Storage Pool or for delivery to DTI's customers or DTI's partner at the Oakland Storage Complex, Texas Eastern Transmission Corporation.

DTI proposes to uprate this segment of the system in order to prevent the pipeline system from exceeding the certificated MAOP in the event of the South Oakford Station going off line. DTI declares that it has employed a temporary solution to this situation by requiring field personnel to shut down in a portion of the storage pipeline system if South Oakford Station shuts down. DTI states that a permanent solution to this situation is to uprate certain of the storage pipelines in the southern portion of the Murrysville Storage Pool to 225 psig, which is a higher MAOP than that portion will achieve.

DTI notes that the pipelines would be uprated using US Department of Transportation regulations, guidelines, and procedures and additionally the uprating of these storage pipelines will have no effect on the design capacity of the Oakford Storage Complex or on the design capacity of the DTI system.

DTI states that no new facilities are required, consequently, there is no cost to DTI, or its customers, associated with increasing the certificated MAOP of these storage pipelines to 225 psig.

Any questions regarding the application should be directed to Sean R. Sleigh, Manager, Dominion Transmission, Inc., 445 West Main Street, Clarksburg, West Virginia 26301, phone: (304) 623-8462, fax: (304) 623-8305.

Any person or the Commission's staff may, within 45 days after issuance of the instant notice by the Commission, file pursuant to Rule 214 of the Commission's Procedural Rules (18 CFR 385.214) a motion to intervene or notice of intervention and, pursuant to Section 157.205 of the Regulations under the Natural Gas Act (18 CFR 157.205), a protest to the request. If no protest is filed within the time allowed therefor, the proposed activity shall be deemed to be authorized effective the day after the time allowed for filing a protest. If a protest is filed and not withdrawn within 30 days after the time allowed for filing a protest, the instant request shall be treated as an application for authorization pursuant to Section 7 of the Natural Gas Act.

David P. Boergers,
Secretary.

[FR Doc. 00-20484 Filed 8-11-00; 8:45 am]

BILLING CODE 6717-01-M